DEPARTMENT OF TRANSPORTATION

Maritime Administration

[Docket No. MARAD-2025-0069]

Request for Comments on the Renewal of a Previously Approved Collection: Merchant Marine Medals and Awards

AGENCY: Maritime Administration, DOT.

ACTION: Notice.

SUMMARY: The Maritime Administration (MARAD) invites public comments on our intention to request the Office of Management and Budget (OMB) approval to renew an information collection in accordance with the Paperwork Reduction Act of 1995. The proposed collection OMB 2133-0506 (Merchant Marine Medals and Awards) is used by MARAD personnel to process and verify requests for service awards. There are no changes to this collection since the last renewal. We are required to publish this notice in the Federal Register to obtain comments from the public and affected agencies.

DATES: Comments must be submitted on or before July 7, 2025.

ADDRESSES: You may submit comments identified by Docket No. MARAD-2025-0069 through one of the following methods:

• Federal eRulemaking Portal: www.regulations.gov. Search using the above DOT docket number and follow the online instructions for submitting comments.

• Mail or Hand Delivery: Docket Management Facility, U.S. Department of Transportation, 1200 New Jersey Avenue SE, West Building, Room W12-140, Washington, DC 20590, between 9 a.m. and 5 p.m., Monday through Friday, except on Federal holidays.

Instructions: All submissions must include the agency name and docket number for this rulemaking.

Note: All comments received will be posted without change to www.regulations.gov including any personal information provided.

Comments are invited on: (a) whether the proposed collection of information is reasonable for the Department's performance; (b) the accuracy of the estimated burden; (c) ways for the Department to enhance the quality, utility, and clarity of the information collection; and (d) ways that the burden could be modified without reducing the quality of the collected information. The agency will summarize and/or include your comments in the request for OMB's clearance of this information collection.

FOR FURTHER INFORMATION CONTACT: Katrina McRae, 202-366-3198, Office of Sealift Support, Maritime Administration, U.S. Department of Transportation, 1200 New Jersey Avenue SE, Washington, DC 20590, Email: Katrina.mcrae@dot.gov.

SUPPLEMENTARY INFORMATION:

Title: Merchant Marine Medals and Awards.

OMB Control Number: 2133-0506.

Type of Request: Extension without change of a previously approved collection.

Abstract: This collection of information provides a method of awarding merchant marine medals and decorations to masters, officers, and crew members of U.S. ships, in recognition of their service in areas of danger during the operations by the Armed Forces of the United States in World War II, Korea, Vietnam, and Operation Desert Storm.

Respondents: Masters, officers, and crew members of U.S. ships.

Affected Public: Individuals or households.

Estimated Number of Respondents: 550.

Estimated Number of Responses: 550.

Estimated Hours per Response: 1.

Annual Estimated Total Annual Burden Hours: 550.

Frequency of Response: Once Annually.

(Authority: The Paperwork Reduction Act of 1995; 44 U.S.C. Chapter 35, as amended; and 49 CFR 1.49.)

By Order of the Maritime Administration.
T. Mitchell Hudson, Jr.,
Secretary, Maritime Administration.

[FR Doc. 2025-07731 Filed 5-2-25; 8:45 am]

BILLING CODE 4910-81-P